DEPARTMENT OF THE INTERIOR

Bureau of Indian Affairs

[190A2100DD/AAKC001030/A0A51010.999900]

Proclaiming Certain Lands as Reservation for the Sault Ste. Marie Tribe of Chippewa Indians

AGENCY: Bureau of Indian Affairs, Interior.

ACTION: Notice of Reservation Proclamation.

SUMMARY: This notice informs the public that the Assistant Secretary—Indian Affairs proclaimed approximately 0.55 acres, more or less, an addition to the reservation of the Sault Ste. Marie Tribe of Chippewa Indians on December 21, 2018.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 5110) for the lands described below. The land was proclaimed to be part of the Sault Ste. Marie Tribe of Chippewa Indians' Reservation in Chippewa County, Michigan.

Sault Ste. Marie Tribe of Chippewa Indians' Reservation, Michigan Meridian, Chippewa County, Michigan

Legal Descriptions Containing 0.55 Acres, More or Less

531 Ashmun Street 469-T-74

All of Lot 9, and parts of Lots 8, 10, 19, 20, and 21, Block 1, Plat of Comptroller's Subdivision No. 4, according to the plat recorded in Liber 2 of Plats, page 36, Chippewa County Records, described as beginning at the Northeast corner of the West 7 feet of said Lot 19, also being the intersection of the North line of said Lot 19 with the East line of Ashmun Street as widened; thence Northerly 100 feet, more or less, along the East line of the West 7 feet of said Lots 20 and 21 and along the East line of said Ashmun Street as widened to the North line of said Lot 21; thence Easterly 100 feet, more or less, to a point on the West line from the North line of said Lot 21, said point also being on the West line of a vacated alley, as described in a document recorded in Liber 172, page 210, Chippewa County Records; thence continuing Easterly 137.5 feet, more or less, to a point on the West line of Court Street, also being the East line of said Lot 8, said point being 2.64 feet Southerly along said West line of Court Street from the Northeast corner of said Lot 8; thence Southerly 100.91 feet, more or less, along said West line of Court Street to a point 3.55 feet Southerly along said West line of Court Street from the Northeast corner of said Lot 10; thence Westerly 237.5 feet, more or less, to the Point of Beginning. Section 6, Town 47 North, Range 1 East, Michigan Meridian, Michigan.

The above-described lands contain a total of 0.55 acres, more or less, which are subject to all valid rights, reservations, rights-of-way, and easements of record.

This proclamation does not affect title to the lands described above, nor does it affect any valid existing easements for public roads and highways, public utilities, railroads, and pipelines, or any other valid easements or rights-of-way or reservations of record.

Dated: December 21, 2018.
Tara Sweeney,
Assistant Secretary—Indian Affairs.

[FR Doc. 2019-01830 Filed 2-8-19; 8:45 am]

BILLING CODE 4337-15-P